DEPARTMENT OF ENERGY

Federal Energy Regulatory Commission

Combined Notice of Filings #1

Take notice that the Commission received the following exempt wholesale generator filings:

Docket Numbers: EG20-214-000.

Applicants: Saint Solar, LLC.

Description: Notice of Self-Certification of Exempt Wholesale Generator Status of Saint Solar, LLC.

Filed Date: 7/20/20.

Accession Number: 20200720-5075.

Comments Due: 5 p.m. ET 8/10/20.

Docket Numbers: EG20-215-000.

Applicants: Hunter Solar LLC.

Description: Notice of Self-Certification of Exempt Wholesale Generator Status of Hunter Solar LLC.

Filed Date: 7/20/20.

Accession Number: 20200720-5105.

Comments Due: 5 p.m. ET 8/10/20.

Take notice that the Commission received the following electric rate filings:

Docket Numbers: ER20-2039-001.

Applicants: GridLiance High Plains LLC.

Description: Compliance filing: GHP ER20-2039 Resubmission of Tariff Record to Correct eTariff Filing Issue to be effective 1/27/2020.

Filed Date: 7/17/20.

Accession Number: 20200717-5154.

Comments Due: 5 p.m. ET 8/7/20.

Docket Numbers: ER20-2455-000.

Applicants: SR Platte, LLC.

Description: Baseline eTariff Filing: MBR Application to be effective 9/18/2020.

Filed Date: 7/17/20.

Accession Number: 20200717-5148.

Comments Due: 5 p.m. ET 8/7/20.

Docket Numbers: ER20-2456-000.

Applicants: Mid-Atlantic Interstate Transmission, LLC, PJM Interconnection, L.L.C.

Description: Section 205(d) Rate Filing: Mid-Atlantic Interstate Transmision submits IA SA No. 5657 to be effective 9/20/2020.

Filed Date: 7/20/20.

Accession Number: 20200720-5065.

Comments Due: 5 p.m. ET 8/10/20.

Docket Numbers: ER20-2457-000.

Applicants: PJM Interconnection, L.L.C.

Description: Section 205(d) Rate Filing: Original ISA, Service Agreement No. 5679; Queue No. AF1-189 to be effective 6/18/2020.

Filed Date: 7/20/20.

Accession Number: 20200720-5070.

Comments Due: 5 p.m. ET 8/10/20.

Docket Numbers: ER20-2458-000.

Applicants: Hunter Solar LLC.

Description: Baseline eTariff Filing: Application for Market-Based Rate Authority to be effective 9/19/2020.

Filed Date: 7/20/20.

Accession Number: 20200720-5084.

Comments Due: 5 p.m. ET 8/10/20.

Docket Numbers: ER20-2459-000.

Applicants: Tri-State Generation and Transmission Association, Inc.

Description: Tariff Cancellation: Notice of Cancellation of Service Agreement No. 850 to be effective 9/1/2020.

Filed Date: 7/20/20.

Accession Number: 20200720-5088.

Comments Due: 5 p.m. ET 8/10/20.

Docket Numbers: ER20-2460-000.

Applicants: Tri-State Generation and Transmission Association, Inc.

Description: Section 205(d) Rate Filing: Amendment to Tri-State Rate Schedule No. 100 to be effective 2/26/2020.

Filed Date: 7/20/20.

Accession Number: 20200720-5111.

Comments Due: 5 p.m. ET 8/10/20.

Docket Numbers: ER20-2461-000.

Applicants: PJM Interconnection, L.L.C.

Description: Section 205(d) Rate Filing: Amendment to ISA, SA No. 5633; Queue No. AC2-088/AD1-136 (amend) to be effective 4/9/2020.

Filed Date: 7/20/20.

Accession Number: 20200720-5112.

Comments Due: 5 p.m. ET 8/10/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 20, 2020.
Nathaniel J. Davis, Sr.,
Deputy Secretary.

[FR Doc. 2020-16082 Filed 7-23-20; 8:45 am]

BILLING CODE 6717-01-P